DEPARTMENT OF HEALTH AND HUMAN SERVICES

Centers for Disease Control and Prevention

[60Day-21-21CG; Docket No. CDC-2021-0004]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled A Longitudinal Examination of Mental and Physical Health among Police Associated with COVID-19. The aim of this project is to evaluate the longitudinal consequences of the COVID-19 pandemic on the mental and physical health of police officers.

DATES: CDC must receive written comments on or before March 29, 2021.

ADDRESSES: You may submit comments, identified by Docket No. CDC-2021-0004 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

A Longitudinal Examination of Mental and Physical Health among Police Associated with COVID-19—New—National Institute for Occupational Safety and Health (NIOSH), Centers for Disease Control and Prevention (CDC).

Background and Brief Description

Police officers are exposed to several stressors during their working lives, including traumatic events (e.g., motor-vehicle accidents, domestic incidents), organizational stressors (e.g., long work hours, shiftwork), public criticism, and concern about physical harm. On top of these day-to-day stressors, the coronavirus disease 2019 (COVID-19) has contributed to an increase in mental and physical risk. Although exact figures are not known, in April 2020, it was estimated that approximately 17% of the New York police department were out sick and five officers had died. Over 1000 police officers had tested positive for COVID-19. Since then, rates of COVID-19 have not only increased in the general population, but also in police populations. These preliminary studies indicate that police departments are under a great deal of stress and at greater risk because of COVID-19. Given that efficiently performing officers are key to successful functioning of law enforcement, addressing police mental and physical health is imperative for their well-being, as well as that of the public they serve. Nonetheless, little research has been conducted to evaluate the physical and mental health consequences of the COVID-19 pandemic on police officers. Thus, NIOSH seeks OMB approval to evaluate the longitudinal mental and physical health effect of the COVID-19 pandemic on police officers.

Previously, in collaboration with NIOSH, the University of New York at Buffalo (UB) conducted a cross-sectional research project to evaluate the mental, physical, and subclinical measures of health in Buffalo, NY police officers as part of the Buffalo Cardio-Metabolic Occupational Police Stress (BCOPS) study. The BCOPs study itself includes a baseline examination and four follow-up examinations. For this reason, NIOSH has mental and physical health data on police officers collected prior to COVID-19, including stress related surveys, blood parameters, physical measures, stress biomarkers (cortisol) and telomere length data.

To meet the aims of the current study NIOSH has contracted with UB to recruit 200 police officers who previously participated in a BCOPS study. Priority will be placed on recruiting officers who participated in the last BCOPS study (n=240). If 200 of the 240 officers cannot be recruited, then UB will try to recruit any officer who has previously participated in a BCOPS study. A subset of the surveys and biological data collected as part of the BCOPS studies will be repeated for this study. By comparing the responses of the surveys and physical data collected as part of BCOPS, prior to COVID-19, to those obtained during this study, NIOSH can evaluate the longitudinal physical and psychological health effects of COVID-19 on the police officers.

To meet the aims of this study there will be two rounds of data collection. The first round will consist of collecting both the mental and physical health data. The second round, approximately 6-8 months later, will consist of collecting the mental health and medical history surveys only.

During the first round, letters will be sent to officers who participated in the previous BCOPS study asking them to voluntarily participate in this study. Once they agree, a letter of introduction will be sent. If an officer hasn't responded after two letters have been sent, UB will contact the officers by phone. If the officer declines to participate they will no longer be contacted. For officers who agree to participate, UB will coordinate the scheduling of officers with the police department and will not schedule officers more than one month in advance. Scheduling will be flexible.

At their designated appointment, all participants will complete the paper and pencil questionnaires then complete the clinical exam, which will entail a fasting blood draw (approximately four tablespoons), measuring the participants' height, weight, abdominal height, waist circumference and neck circumference, and taking their blood pressure. Cortisol saliva testing will be done outside of the clinic at the participant's residence by the participant. Participants will be provided with Salivettes (Sarstedt, USA), a commercially available collection device consisting of dental rolls and centrifuge tubes, to take with them when the leave the clinic for the collection of saliva samples. Participants will be given instructions on how to collect the samples to be taken the day after they leave the clinic—four samples in the morning when they awaken, one at lunchtime, one at dinner, and one when the go to sleep. The participant will be asked to return the saliva samples to the clinic when completed either in person or via paid postage. This ends the clinic visit. UB will advise the participant upon departing during round one that they would like to contact them again in about 6-8 months to complete the same surveys they did in the clinic.

For the second round, UB will conduct a follow-up survey approximately 6-8 months after the clinic visit. Each officer who participated in the first round and who agreed to participate in the second round, will be sent the same set of psychological surveys, the medical history questionnaire, and a follow-up COVID questionnaire. The psychological surveys will be the same surveys they did during the first round, while the COVID questionnaire asks additional questions related to their experience with COVID since the clinic visit. They will not be asked to complete the personal history questionnaire the second time. This second set of questionnaires allows NIOSH to meet the study aims.

The burden table lists the estimated population size of 200 police officers who will respond to 16 psychosocial questionnaires, serological (blood) collection, and salivary cortisol at the first round. All officers who participate in the first round and who have agreed, will be mailed the medical history questionnaire and psychosocial questionnaires 6-8 months later (second round). Biological samples will not be collected during the second round. We anticipate that up to 10% of the participants may not present for testing during either the first round or second round of questionnaires. Therefore, we estimate that 180 officers will complete both rounds of the data collection. The total burden hours for all surveys, serological sample collection, and salivary cortisol is 547. There are no costs to the respondents other than their time.

Estimated Annualized Burden Hours
Type of respondents | Form name | Number of respondents | Number of responses per respondent | Average burden per response (in hours) | Total burden (in hours)
Police officers | Personal history | 180 | 1 | 2/60 | 6
| Medical history | 180 | 2 | 8/60 | 48
| Spielberger Stress Survey | 180 | 2 | 7/60 | 42
| Center for Epidemiologic Studies Depression Scale | 180 | 2 | 2/60 | 12
| Brief Cope | 180 | 2 | 3/60 | 18
| Organizational Support Scale | 180 | 2 | 2/60 | 12
| Maslach Burnout | 180 | 2 | 2/60 | 12
| Fatigue Scale | 180 | 2 | 2/60 | 12
| Posttraumatic Stress Disorder -5 | 180 | 2 | 2/60 | 12
| Connor-Davidson Resiliency Scale | 180 | 2 | 1/60 | 6
| Beck Anxiety | 180 | 2 | 3/60 | 18
| Pittsburgh Sleep Quality Index |  | 2 | 2/60 | 12
| Beck Depression | 180 | 2 | 3/60 | 18
| Beck Hopelessness | 180 | 2 | 2/60 | 14
| COVID-19 (round 1) | 180 | 1 | 3/60 | 9
| COVID-19 (round 2) | 180 | 1 | 3/60 | 9
| Civil Unrest/Public Perception/work environment | 180 | 2 | 3/60 | 17
| Serological Sample collection | 180 | 1 | 1 | 180
| Salivary Cortisol collection | 180 | 1 | 30/60 | 90
Total |  |  |  |  | 547

Jeffrey M. Zirger,
Lead, Information Collection Review Office, Office of Scientific Integrity, Office of Science, Centers for Disease Control and Prevention.

[FR Doc. 2021-01621 Filed 1-25-21; 8:45 am]

BILLING CODE 4163-18-P